DEPARTMENT OF ENERGY

Federal Energy Regulatory Commission

[Docket Nos. EL03-19-000, et al.]

Consolidated Edison Company, et al.; Electric Rate and Corporate Filings

October 31, 2002.

The following filings have been made with the Commission. The filings are listed in ascending order within each docket classification.

1. Southern California Edison Company v. Enron Generating Facilities: Victory Garden Phase IV Partnership, Sky River Partnership, Cabazon Power Partners LLC, Zond Wind System Partners, Ltd. Series 85-A, and Zond Wind System Partners, Ltd. Series 85-B

[Docket Nos. EL03-19-000, QF90-43-005, QF91-59-006, QF95-186-005, QF85-687-002, and QF85-686-002]

Take notice that on October 28, 2002, Southern California Edison Company tendered for filing a petition for declaratory order requesting revocation of qualifying facility status for certain Enron-affiliated generating facilities and a complaint and motions for investigation and hearing, and for just and reasonable rates and refunds.

Comment Date: November 18, 2002.

2. Virginia Electric and Power Company

[Docket No. ER01-247-007]

Take notice that on October 29, 2002, Virginia Electric and Power Company, doing business as Dominion Virginia Power, hereby tenders for filing a revision to Dominion Virginia Power's generator interconnection procedures (Interconnection Procedures) in compliance with the Commission's Order issued in this docket on August 2, 2002. Dominion Virginia Power respectfully requests that the revision to its Interconnection Procedures become effective October 30, 2002, the day after filing.

Comment Date: November 19, 2002.

3. Nevada Power Company

[Docket No. ER03-89-000]

Take notice that on October 29, 2002, Nevada Power Company, tendered for filing pursuant to Section 205 of the Federal Power Act, an executed Service Agreement for Network Integration Transmission Service (Service Agreement) between Nevada Power Company and the City of Needles, California. The Service Agreement is being filed in compliance with Section 29.5 of Sierra Pacific Resources Operating Companies' Open Access Transmission Tariff.

Nevada Power Company has requested that the Commission accept the Service Agreement and permit service in accordance therewith effective October 1, 2002.

Comment Date: November 19, 2002.

4. Nevada Power Company

[Docket No. ER03-90-000]

Take notice that on October 29, 2002, Nevada Power Company (Nevada Power) tendered for filing in accordance with 18 CFR part 35 of the Commission's Rules and Regulations, a Notice of Cancellation of the Agreement for the Sale of Electric Power and for Transmission Service Between Nevada Power Company and the City of Needles, California. Nevada Power has requested an effective date for the cancellation of October 1, 2002.

This Notice of Cancellation is filed pursuant to the termination notice given by the City of Needles to Nevada Power Company, appropriate to the Agreement for the Sale of Electric Power and for Transmission Service. Copies of the filing were served upon the City of Needles, the California Public Utilities Commission, and the Public Utilities Commission of Nevada.

Comment Date: November 19, 2002.

5. Otter Tail Power Company

[Docket No. ER03-91-000]

Take notice that on October 29, 2002, Otter Tail Power Company (Otter Tail) tendered for filing an executed service agreement with the Midwest Independent Transmission System Operator (Midwest ISO), for services provided under Otter Tail's Control Area Services and Operations Tariff. Otter Tail requests an effective date of October 30, 2002 for this executed service agreement.

A copy of the filing was served on representatives of the Midwest ISO and other affected parties.

Comment date: November 19, 2002.

6. Idaho Power Company

[Docket No. ER03-92-000]

Take notice that on October 29, 2002, Idaho Power Company filed a Service Agreement for Firm Point-to-Point Transmission Service between Idaho Power Company and Pinnacle West Capital Corporation under its open access transmission tariff in the above-captioned proceeding.

Comment Date: November 19, 2002.

7. El Paso Electric Company

[Docket No. ER03-93-000]

Take notice that on October 29, 2002, El Paso Electric Company filed an unexecuted transmission service agreement with Public Service Company of New Mexico in this proceeding.

Comment Date: November 19, 2002.

8. NorthWestern Corporation

[Docket No. ES03-8-000]

Take notice that on October 25, 2002, NorthWestern Corporation (NorthWestern) submitted an application pursuant to section 204 of the Federal Power Act seeking authorization to assume no more than $355,402,000 of First Mortgage Bonds; $67,010,325 of Junior Subordinated Debentures; $40,000,000 of Medium-Term Notes; and $62,700,000 of Transition Bonds of NorthWestern Energy, L.L.C., formerly known as Montana Power Company. NorthWestern also requested a waiver from the Commission's competitive bidding and negotiated placement requirements at 18 CFR 34.2.

Comment Date: November 12, 2002.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-28441 Filed 11-7-02; 8:45 am]

BILLING CODE 6717-01-P